DEPARTMENT OF COMMERCE

National Oceanic and Atmospheric Administration

RIN 0648-XP84

Endangered Species; File No. 14394

AGENCY: National Marine Fisheries Service (NMFS), National Oceanic and Atmospheric Administration (NOAA), Commerce.

ACTION: Notice; receipt of application.

SUMMARY: Notice is hereby given that Douglas Peterson, PhD, University of Georgia, Warnell School of Forest Resources, Athens, GA 30602, has applied in due form for a permit to take shortnose sturgeon (Acipenser brevirostrum) for purposes of scientific research.

DATES: Written, telefaxed, or e-mail comments must be received on or before July 24, 2009.

ADDRESSES: The application and related documents are available for review by selecting “Records Open for Public Comment” from the Features box on the Applications and Permits for Protected Species (APPS) home page, https://apps.nmfs.noaa.gov/index.cfm, and then selecting File No. 14394 from the list of available applications. These documents are also available for review upon written request or by appointment. The application and related documents are available for review upon written request or by appointment in the following offices:

Permits, Conservation and Education Division, Office of Protected Resources, NMFS, 1315 East-West Highway, Room 13705, Silver Spring, MD 20910; phone (301)713-2289; fax (301)427-2521; and

Southeast Region, NMFS, 263 13th Avenue South, St. Petersburg, FL 33701; phone (727) 824-5312; fax (727) 824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 14394.

FOR FURTHER INFORMATION CONTACT: Malcolm Mohead or Kate Swails, (301) 713-2289.

SUPPLEMENTARY INFORMATION: The subject permit is requested under the authority of the Endangered Species Act of 1973, as amended (ESA; 16 U.S.C. 1531 et seq.), and the regulations governing the taking, importing, and exporting of endangered and threatened species (50 CFR parts 222-226).

Dr. Douglas Peterson is seeking a five-year scientific research permit to conduct a study in the Altamaha River, Georgia, assessing the distribution, abundance and movements of adult and sub-adult of shortnose sturgeon. The permit would authorize non-lethal sampling methods on up to 500 shortnose sturgeon annually, but not to exceed 1,500 over the life of the permit. Research activities would include gill netting, measuring (length, weight, photos), genetic/fin-ray tissue sampling, PIT and sonic tagging, anesthesia, laparoscopy, and gastric lavage. To document spawning in the river, up to 20 eggs or larvae would be lethally collected with artificial substrates annually. Additionally, one incidence of unintentional mortality or serious injury is proposed over the life of the permit.

Dated: June 18, 2009
P. Michael Payne,
Chief, Permits, Conservation and Education Division, Office of Protected Resources, National Marine Fisheries Service.

[FR Doc. E9-14879 Filed 6-23-09; 8:45 am]

BILLING CODE 3510-22-S